DEPARTMENT OF HEALTH AND HUMAN SERVICES

Centers for Disease Control and Prevention

[30DAY-26-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Preventing Hearing Loss Among Construction Workers—New—National Institute for Occupational Safety and Health (NIOSH), Centers for Disease Control and Prevention (CDC). The mission of the National Institute for Occupational Safety and Health (NIOSH) is to promote safety and health at work for all people through research and prevention. Using Health Belief/ Promotion models and stages of change theory (Prochaska's Transtheoretical Model), NIOSH has collaborated with the United Brotherhood of Carpenters (UBC) to develop a comprehensive hearing loss prevention program targeted specifically for carpenter apprentices. As part of the impact and evaluation component of this project, a survey will be administered to assess carpenter apprentices' hearing health attitudes, beliefs, and behavioral intentions before and after they receive the training program and at a one-year follow-up interval. The survey was developed and validated by NIOSH in collaboration with university partners and the UBC. This study involves 400 carpenters divided into four groups of 100 each: three experimental groups and one control group. Each of the three experimental groups will participate in one of three methods for delivering OSHA-required hearing loss prevention training (29 CFR, subpart D, 1926.52). The 300 participants in the experimental groups will be given one survey prior to training and a second survey (using an equivalent form) after training. The control group will not receive the experimental training and will simply be given one survey in conjunction with existing apprentice training activities. Half (50) of the participants in the control group will be administered one form, and the other half (50) will be given the equivalent form. This process will be repeated one and two years after the initial survey administration activities. Data collected in this investigation will enable NIOSH to better evaluate the effectiveness of the hearing loss prevention program in educating and motivating these workers to actively protect their hearing well before they suffer permanent noise-induced hearing loss. The annual burden for this data collection is 140 hours.

Form name | Number of respondents | Responses per respondent | Hours per response
Form A | 350 | 1 | 12/60
Form B | 350 | 1 | 12/60

Dated: April 25, 2002.
Nancy E. Cheal,
Acting Associate Director for Policy, Planning and Evaluation Centers for Disease Control and Prevention.

[FR Doc. 02-10683 Filed 4-30-02; 8:45 am]

BILLING CODE 4163-18-P